DEPARTMENT OF COMMERCE

Foreign-Trade Zones Board

[B-67-2013]

Foreign-Trade Zone 44—Mt. Olive, New Jersey; Authorization of Production Activity; Givaudan Fragrances Corporation (Fragrance and Flavor Products); Mt. Olive, New Jersey

On June 11, 2013, Givaudan Fragrances Corporation submitted a notification of proposed production activity to the Foreign-Trade Zones (FTZ) Board for its facility within Site 1 of FTZ 44 in Mt. Olive, New Jersey.

The notification was processed in accordance with the regulations of the FTZ Board (15 CFR part 400), including notice in the Federal Register inviting public comment (78 FR 39707,07-02-2013). The FTZ Board has determined that no further review of the activity is warranted at this time. The production activity described in the notification is authorized, subject to the FTZ Act and the Board's regulations, including Section 400.14.

Dated: October 28, 2013.
Andrew McGilvray,
Executive Secretary.

[FR Doc. 2013-26370 Filed 11-1-13; 8:45 am]

BILLING CODE 3510-DS-P